DEPARTMENT OF DEFENSE

32 CFR Chs. I, V, VI, and VII

33 CFR Ch. II

36 CFR Ch. III

48 CFR Ch. II

Improving Government Regulations; Unified Agenda of Federal Regulatory and Deregulatory Actions

AGENCY: Department of Defense (DoD).

ACTION: Semiannual regulatory agenda.

SUMMARY: This agenda announces the proposed regulatory actions the Department of Defense (DOD) plans for the next 12 months and those completed since the spring 2019 agenda. It was developed under the guidelines of Executive Order 12866 “Regulatory Planning and Review,” Executive Order 13771 “Reducing Regulation and Controlling Regulatory Costs,” and Executive Order 13563 “Improving Regulation and Regulatory Review.” This Agenda documents DOD's work under Executive Order 13777 “Enforcing the Regulatory Reform Agenda,” and many regulatory actions support the recommendations of the DoD Regulatory Reform Task Force (as indicated in the individual rule abstracts). Members of the public may submit comments on individual proposed and interim final rulemakings at www.regulations.gov during the comment period that follows publication in the Federal Register.

This agenda updates the report published on May 22, 2019, and includes regulations expected to be issued and under review over the next 12 months. The next agenda will publish in the spring of 2020.

The complete Unified Agenda will be available online at www.reginfo.gov.

Because publication in the Federal Register is mandated for the regulatory flexibility agendas required by the Regulatory Flexibility Act (5 U.S.C. 602), the Department of Defense's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's agenda requirements. Additional information on these entries is in the Unified Agenda available online.

FOR FURTHER INFORMATION CONTACT: For information concerning the overall DoD regulatory improvement program and for general semiannual agenda information, contact Ms. Patricia Toppings, telephone 571-372-0485, or write to Office of the Chief Management Officer, Directorate for Oversight and Compliance, Regulatory and Advisory Committee Division, 9010 Defense Pentagon, Washington, DC 20301-9010, or email: patricia.l.toppings.civ@mail.mil.

For questions of a legal nature concerning the agenda and its statutory requirements or obligations, write to Office of the General Counsel, 1600 Defense Pentagon, Washington, DC 20301-1600, or call 703-693-9958.

For general information on Office of the Secretary regulations, other than those which are procurement-related, contact Ms. Morgan Park, telephone 571-372-0489, or write to Office of the Chief Management Officer, Directorate of Oversight and Compliance, Regulatory and Advisory Committee Division, 9010 Defense Pentagon, Washington, DC 20301-9010, or email: morgan.e.park.civ@mail.mil.

For general information on Office of the Secretary regulations which are procurement-related, contact Ms. Jennifer Hawes, telephone 571-372-6115, or write to Office of the Under Secretary of Defense for Acquisition and Sustainment, Defense Pricing and Contracting, Defense Acquisition Regulations System, Room 3B941, 3060 Defense Pentagon, Washington, DC 20301-3060, or email: jennifer.l.hawes2.civ@mail.mil.

For general information on Department of the Army regulations, contact Ms. Brenda Bowen, telephone 571-515-0206, or write to the U.S. Army Records Management and Declassification Agency, ATTN: AAHS-RDO, Building 1458, Suite NW6305, 9301 Chapek Road, Ft. Belvoir, VA 22060-5605, or email: brenda.s.bowen.civ@mail.mil.

For general information on the U.S. Army Corps of Engineers regulations, contact Ms. Stacey Jensen, telephone 703-695-6791, or write to Office of the Assistant Secretary of the Army (Civil Works), 108 Army Pentagon, Room 3E441, Washington, DC 20310-0108, or email: stacey.m.jensen.civ@mail.mil.

For general information on Department of the Navy regulations, contact CDR Meredith Werner, telephone 703-614-7408, or write to Department of the Navy, Office of the Judge Advocate General, Administrative Law Division (Code 13), Washington Navy Yard, 1322 Patterson Avenue SE, Suite 3000, Washington, DC 20374-5066, or email: meredith.werner@navy.mil.

For general information on Department of the Air Force regulations, contact Bao-Anh Trinh, telephone 703-614-8500, or write the Office of the Secretary of the Air Force, Chief, Information Dominance/Chief Information Officer (SAF CIO/A6), 1800 Air Force Pentagon, Washington, DC 20330-1800, or email: usaf.pentagon .saf-cio-a6.mbx.af-foia@mail.mil.

For specific agenda items, contact the appropriate individual indicated for each regulatory action.

SUPPLEMENTARY INFORMATION: This edition of the Unified Agenda of Federal Regulatory and Deregulatory Actions reports on actions planned by the Office of the Secretary of Defense (OSD), the Military Departments, procurement-related actions, and actions planned by the U.S. Army Corps of Engineers.

This agenda also identifies rules impacted by the:

a. Regulatory Flexibility Act;

b. Paperwork Reduction Act of 1995;

c. Unfunded Mandates Reform Act of 1995.

Generally, rules discussed in this agenda will contain five sections: (1) Prerule stage; (2) proposed rule stage; (3) final rule stage; (4) completed actions; and (5) long-term actions. Where certain regulatory actions indicate that small entities are affected, the effect on these entities may not necessarily have significant economic impact on a substantial number of these entities as defined in the Regulatory Flexibility Act (5 U.S.C. 601(6)).

The publishing of this agenda does not waive the applicability of the military affairs exemption in section 553 of title 5 U.S.C. and section 3 of Executive Order 12866.

Dated: July 26, 2019.
Lisa W. Hershman,
Deputy Chief Management Officer.

Defense Acquisition Regulations Council—Final Rule Stage
Sequence No. | Title | Regulation Identifier No.
220 | Covered Telecommunications Equipment or Services (DFARS Case 2018-D022) (Reg Plan Seq No. 22) | 0750-AJ84
221 | Prompt Payments of Small Business Subcontractors (DFARS Case 2018-D068) (Reg Plan Seq No. 23) | 0750-AK25
222 | Nonmanufacturer Rule for 8(a) Participants (DFARS Case 2019-D004) (Reg Plan Seq No. 25) | 0750-AK39
References in boldface appear in The Regulatory Plan in part II of this issue of the Federal Register.

Office of Assistant Secretary for Health Affairs—Proposed Rule Stage
Sequence No. | Title | Regulation Identifier No.
223 | Chiropractic and Acupuncture Treatment Under the TRICARE Program | 0720-AB77

DEPARTMENT OF DEFENSE (DOD)

Defense Acquisition Regulations Council (DARC)

Final Rule Stage

220. Covered Telecommunications Equipment or Services (DFARS Case 2018-D022)

Regulatory Plan: This entry is Seq. No. 22 in part II of this issue of the Federal Register.

RIN: 0750-AJ84

221. Prompt Payments of Small Business Subcontractors (DFARS Case 2018-D068)

Regulatory Plan: This entry is Seq. No. 23 in part II of this issue of the Federal Register.

RIN: 0750-AK25

222. Nonmanufacturer Rule for 8(A) Participants (DFARS Case 2019-D004)

Regulatory Plan: This entry is Seq. No. 25 in part II of this issue of the Federal Register.

RIN: 0750-AK39

DEPARTMENT OF DEFENSE (DOD)

Office of Assistant Secretary for Health Affairs (DODOASHA)

Proposed Rule Stage

223. • Chiropractic and Acupuncture Treatment Under the Tricare Program

E.O. 13771 Designation: Other.

Legal Authority: Not Yet Determined

Abstract: Under the current regulations, TRICARE excludes chiropractors as TRICARE-authorized providers whether or not their services would be eligible as medically necessary care if furnished by any other authorized provider. In addition, the current regulation excludes acupuncture treatment whether used as a therapeutic agent or as an anesthetic. This proposed rule seeks to eliminate these exclusions and to add benefit coverage of chiropractic and acupuncture treatment when deemed medically necessary for specific conditions. This proposed rule will add licensed Doctors of Chiropractic (DCs) and Licensed Acupuncturists (LACs) who meet established qualifications as TRICARE-authorized providers and will establish reimbursement rates and cost-sharing provisions for covered chiropractic and acupuncture treatment.

Timetable:

Action | Date | FR Cite
NPRM | 06/00/20

Regulatory Flexibility Analysis Required: Yes.

Agency Contact: Joy Mullane, Department of Defense, Office of Assistant Secretary for Health Affairs, Office of Assistant Secretary for Health Affairs, 16401 E Centretech Parkway, Aurora, CO 80011-9066, Phone: 303 676-3457, Fax: 303 676-3579, Email: joy.mullane.civ@mail.mil.

RIN: 0720-AB77

[FR Doc. 2019-26538 Filed 12-23-19; 8:45 am]

BILLING CODE 5001-06-P